DEPARTMENT OF THE INTERIOR

Fish and Wildlife Service

50 CFR Part 17

[Docket No. FWS-R8-ES-2023-0092; FXES1111090FEDR-245-FF09E21000]

RIN 1018-BH08

Endangered and Threatened Wildlife and Plants; Threatened Species Status With Section 4(d) Rule for the Northwestern Pond Turtle and Southwestern Pond Turtle

AGENCY: Fish and Wildlife Service, Interior.

ACTION: Proposed rule; reopening of comment period.

SUMMARY: We, the U.S. Fish and Wildlife Service (Service), are reopening the public comment period on our October 3, 2023, proposed rule to list the northwestern pond turtle (Actinemys marmorata), a species from Washington, Oregon, Nevada, and northern and central California, and the southwestern pond turtle (Actinemys pallida), a species from central and southern California and Baja California, Mexico, as threatened species under the Endangered Species Act of 1973, as amended (Act). We are taking this action to allow all interested parties an additional opportunity to comment on the proposed listing of the two species and the proposed rule issued under section 4(d) of the Act (“4(d) rule”) for the species. Comments previously submitted need not be resubmitted and will be fully considered in our final determinations.

DATES: The comment period on the proposed rule that published October 3, 2023 (88 FR 68370), is reopened. We will accept comments received or postmarked on or before May 6, 2024. Please note that comments submitted electronically using the Federal eRulemaking Portal (see ADDRESSES, below) must be received by 11:59 p.m. eastern time on the closing date to ensure consideration.

ADDRESSES: Availability of documents: You may obtain copies of the October 3, 2023, proposed rule and associated documents on the internet at https://www.regulations.gov under Docket No. FWS-R8-ES-2023-0092.

Written comments: You may submit comments by one of the following methods:

(1) Electronically: Go to the Federal eRulemaking Portal: https://www.regulations.gov. In the Search box, enter FWS-R8-ES-2023-0092, which is the docket number for the proposed rule. Then, click on the Search button. On the resulting page, in the panel on the left side of the screen, under the Document Type heading, check the Proposed Rule box to locate this document. You may submit a comment by clicking on “Comment.”

(2) By hard copy: Submit by U.S. mail to: Public Comments Processing, Attn: FWS-R8-ES-2023-0092, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Steve Henry, Field Supervisor, U.S. Fish and Wildlife Service, 2493 Portola Road, Suite B, Ventura, CA 93003; telephone 805-644-1766. Individuals in the United States who are deaf, deafblind, hard of hearing, or have a speech disability may dial 711 (TTY, TDD, or TeleBraille) to access telecommunications relay services. Individuals outside the United States should use the relay services offered within their country to make international calls to the point-of-contact in the United States. Please see Docket No. FWS-R8-ES-2023-0092 on https://www.regulations.gov for a document that summarizes the October 3, 2023, proposed rule.

SUPPLEMENTARY INFORMATION:

Background

On October 3, 2023, we published a proposed rule (88 FR 68370) to list the northwestern and southwestern pond turtles as threatened species with a 4(d) rule under the Act (16 U.S.C. 1531 et seq.). The proposed rule opened a 60-day public comment period, ending December 4, 2023. We are reopening the comment period to allow the public an additional opportunity to provide comments on the October 3, 2023, proposed rule.

For a description of previous Federal actions concerning listing of the northwestern and southwestern pond turtle and information on the types of comments that would be helpful to us in promulgating this rulemaking action, please refer to the October 3, 2023, proposed rule (88 FR 68370 at 68371-68372).

Public Comments

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Comments and materials we receive, as well as supporting documentation we used in preparing the October 3, 2023, proposed rule, will be available for public inspection on https://www.regulations.gov at Docket No. FWS-R8-ES-2023-0092.

Authors

The primary authors of this document are the staff members of the Fish and Wildlife Service's Species Assessment Team and the Ventura Fish and Wildlife Office.

Authority

The authority for this action is the Endangered Species Act of 1973, as amended (16 U.S.C. 1531 et seq.).

Martha Williams,
Director, U.S. Fish and Wildlife Service.

[FR Doc. 2024-07094 Filed 4-3-24; 8:45 am]

BILLING CODE 4333-15-P